NATIONAL CREDIT UNION ADMINISTRATION

Notice of Change in Time of Meeting

The time of the previously announced closed Board meeting (Federal Register, Vol. 68, No. 178, page 54021, September 15, 2003) scheduled for Thursday, September 18, 2003, at 11:30 a.m., was changed to 9 a.m. due to the probability of inclement weather later in the day. Earlier announcement of this change was not practicable.

FOR FURTHER INFORMATION CONTACT: Becky Baker, Secretary of the Board, Telephone: (703) 518-6304.

Becky Baker,
Secretary of the Board.

[FR Doc. 03-24288 Filed 9-22-03; 2:00 pm]

BILLING CODE 7535-01-M